DEPARTMENT OF TRANSPORTATION

Federal Aviation Administration

14 CFR Part 39

[Docket No. FAA-2007-27715; Directorate Identifier 2006-NM-140-AD]

RIN 2120-AA64

Airworthiness Directives; Airbus Model A330 and A340 Airplanes

AGENCY: Federal Aviation Administration (FAA), Department of Transportation (DOT).

ACTION: Supplemental notice of proposed rulemaking (NPRM); reopening of comment period.

SUMMARY: The FAA is revising an earlier NPRM for an airworthiness directive (AD) that applies to all Airbus Model A330-200, A330-300, A340-200, and A340-300 series airplanes; and Model A340-541 and A340-642 airplanes. The original NPRM would have superseded an existing AD that currently requires operators to revise the Airworthiness Limitations section (ALS) of the Instructions for Continued Airworthiness (ICA) to incorporate new information. This information includes, for all affected airplanes, decreased life limit values for certain components; and for Model A330-200 and -300 series airplanes, new inspections, compliance times, and new repetitive intervals to detect fatigue cracking, accidental damage, or corrosion in certain structures. The original NPRM proposed to revise the ALS, for all affected airplanes, by adding new Airworthiness Limitations Items (ALIs) to incorporate service life limits for certain items and inspections to detect fatigue cracking, accidental damage or corrosion in certain structures, in accordance with the revised ALS of the ICA. The original NPRM resulted from the issuance of new and more restrictive service life limits and structural inspections based on fatigue testing and in-service findings. This new action revises the original NPRM by adding airplanes, adding new requirements, and including more restrictive compliance thresholds and intervals. We are proposing this supplemental NPRM to detect and correct fatigue cracking, accidental damage, or corrosion in principal structural elements, and to prevent failure of certain life-limited parts, which could result in reduced structural integrity of the airplane.

DATES: We must receive comments on this supplemental NPRM by September 10, 2007.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: U.S. Department of Transportation, Docket Operations, M-30, West Building Ground Floor, Room W12-140, 1200 New Jersey Avenue, SE., Washington, DC 20590.

• Fax: (202) 493-2251.

• Hand Delivery: Room W12-140 on the ground floor of the West Building, 1200 New Jersey Avenue, SE., Washington, DC, between 9 a.m. and 5 p.m., Monday through Friday, except Federal holidays.

Contact Airbus, 1 Rond Point Maurice Bellonte, 31707 Blagnac Cedex, France, for service information identified in this proposed AD.

FOR FURTHER INFORMATION CONTACT: Tim Backman, Aerospace Engineer International Branch, ANM-116, FAA, International Branch, Transport Airplane Directorate, 1601 Lind Avenue, SW., Renton, Washington 98055-4056; telephone (425) 227-2797; fax (425) 227-1149.

SUPPLEMENTARY INFORMATION:

Comments Invited

We invite you to submit any relevant written data, views, or arguments regarding this proposal. Send your comments to an address listed in the ADDRESSES section. Include the docket number “Docket No. FAA-2007-27715; Directorate Identifier 2006-NM-140-AD” at the beginning of your comments. We specifically invite comments on the overall regulatory, economic, environmental, and energy aspects of this supplemental NPRM. We will consider all comments received by the closing date and may amend this supplemental NPRM in light of those comments.

We will post all comments submitted, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Operations office between 9 a.m. and 5 p.m., Monday through Friday, except Federal holidays. The Docket Operations office (telephone (800) 647-5527) is located on the ground level of the West Building at the DOT street address stated in the ADDRESSES section. Comments will be available in the AD docket shortly after the Docket Management System receives them.

Discussion

The FAA issued a notice of proposed rulemaking (NPRM) (the “original NPRM”) to amend 14 CFR part 39 to include an AD that supersedes AD 2006-09-07, amendment 39-14577 (71 FR 25919, May 3, 2006). The existing AD applies to all Airbus Model A330-200, A330-300, A340-200, and A340-300 series airplanes; and Model A340-541 and A340-642 airplanes. The original NPRM was published in the Federal Register on March 28, 2007 (72 FR 14497). The original NPRM proposed to revise the ALS, for all affected airplanes, by adding new Airworthiness Limitations Items (ALIs) to incorporate service life limits for certain items and inspections to detect fatigue cracking, accidental damage, or corrosion in certain structures, in accordance with the revised ALS of the Instructions for Continued Airworthiness (ICA).

Actions Since Original NPRM Was Issued

Since we issued the original NPRM, the European Aviation Safety Agency (EASA), which is the Technical Agent for the Member States of the European Community, notified us that an unsafe condition might exist on all Airbus Model A330 and A340 airplanes. The EASA advises that Airbus has revised its service life limits and structural inspections based upon certification requirements. Fatigue cracking, accidental damage, or corrosion in principal structural elements and failure of certain life limited parts, if not corrected, could result in reduced structural integrity of the airplane.

The EASA also advises that Airbus has revised Document AI/SE-M4/95A.0051/97, “A340 Airworthiness Limitations Items,” from Issue 9, dated January 17, 2006, to Issue 10, dated February 1, 2007, to revise the applicability, threshold, and intervals of certain inspection tasks and to introduce new weight variant configurations. In addition, Airbus has issued A330 and A340 ALS Part 1—Safe Life Airworthiness Limitation Items, dated March 30, 2007, Sub-part 1-2, “Life Limits,” and Sub-part 1-3, “Demonstrated Fatigue Lives,” of both ALS Part 1 documents to reduce certain limitations and add limitations corresponding to new weight variant configurations.

Incorporating these revisions into the ALS of the Instructions for Continued Airworthiness is intended to ensure the continued structural integrity of these airplanes.

Accomplishing the actions specified in the service information is intended to adequately address the unsafe condition. The EASA mandated the service information and issued EASA airworthiness directives 2007-0133, dated May 11, 2007, and 2007-0158, dated June 4, 2007, to ensure the continued airworthiness of these airplanes in France. EASA airworthiness directive 2007-0133 supersedes airworthiness directives 2006-0129 and 2006-0130, both dated May 22, 2006; and EASA airworthiness directive 2007-0158 supersedes airworthiness directive 2006-0308, dated October 10, 2006. (EASA airworthiness directives 2006-0129 and 2006-0130, both dated May 22, 2006; and 2006-0308, dated October 10, 2006; were identified in the original NPRM.)

Clarification of Alternative Method of Compliance (AMOC) Paragraph

We have revised this action to clarify the appropriate procedure for notifying the principal inspector before using any approved AMOC on any airplane to which the AMOC applies.

FAA's Determination and Proposed Requirements of the Supplemental NPRM

The changes discussed above expand the scope of the original NPRM; therefore, we have determined that it is necessary to reopen the comment period to provide additional opportunity for public comment on this supplemental NPRM.

Costs of Compliance

This proposed AD would affect about 37 airplanes of U.S. registry. The following table provides the estimated costs for U.S. operators to comply with this proposed AD.

Estimated Costs
Action | Work hour | Average labor rate per hour | Parts | Cost per airplane | Number of U.S.- registered airplanes | Fleet cost
Revise the ALS, required by AD 2006-09-07 | 1 | $80 | None | $80 | 20 | $1,600
Revise the ALS, new proposed action | 1 | 80 | None | 80 | 37 | 2,960

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this supplemental NPRM and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14577 (71 FR 25919, May 3, 2006) and adding the following new airworthiness directive (AD):

AIRBUS: Docket No. FAA-2007-27715; Directorate Identifier 2006-NM-140-AD.

Comments Due Date

(a) The FAA must receive comments on this AD action by September 17, 2007.

Affected ADs

(b) This AD supersedes AD 2006-09-07.

Applicability

(c) This AD applies to all Airbus Model A330 and A340 airplanes, certificated in any category.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (j) of this AD. The request should include a description of changes to the required inspections that will ensure the continued damage tolerance of the affected structure. The FAA has provided guidance for this determination in Advisory Circular (AC) 25-1529-1.

Unsafe Condition

(d) This AD results from the issuance of new and more restrictive service life limits and structural inspections based on fatigue testing and in-service findings. We are issuing this AD to detect and correct fatigue cracking, accidental damage, or corrosion in principal structural elements, which could result in reduced structural integrity of the airplane.

Compliance

(e) You are responsible for having the actions required by this AD performed within the compliance times specified, unless the actions have already been done.

Restatement of Requirements of AD 2006-09-07

Airworthiness Limitations Revision

(f) Within 3 months after June 7, 2006 (the effective date of AD 2006-09-07): Revise the Airworthiness Limitations Section (ALS) of the Instructions for Continued Airworthiness by incorporating into the ALS the documents in paragraphs (f)(1) and (f)(2) of this AD, as applicable.

(1) Airbus Document AI/SE-M4/95A.0089/97, “A330 Airworthiness Limitations Items,” Issue 12, dated November 1, 2003, as specified in Section 9-2 of the Airbus A330 Maintenance Planning Document (MPD).

(2) Section 9-1, “Life limits/Monitored parts,” Revision 05, dated April 7, 2005, of the Airbus A330 and A340 MPDs.

(g) Except as provided by paragraph (h) or (j) of this AD: After the actions in paragraph (f) of this AD have been accomplished, no alternative inspections or inspection intervals may be approved for the structural elements specified in the documents listed in paragraph (f) of this AD.

New Requirements of This AD

ALS Revision

(h) Within 3 months after the effective date of this AD: Revise the ALS of the Instructions for Continued Airworthiness to incorporate the documents specified in paragraphs (h)(1) and (h)(2) of this AD, as applicable. Accomplishing the revision in this paragraph terminates the requirements in paragraph (f) of this AD.

(1) Airbus Document AI/SE-M4/95A.0089/97, “A330 Airworthiness Limitation Items (ALI),” Issue 14, dated October 10, 2005; or Airbus Document AI/SE-M4/95A.0051/97, “A340 Airworthiness Limitations Items,” Issue 10, dated February 1, 2007.

(2) Sub-part 1-2 “Life Limits,” and Sub-part 1-3 “Demonstrated Fatigue Lives,” of Airbus A330 or A340 ALS Part 1, “Safe Life Airworthiness Limitation Items,” dated March 30, 2007, as applicable.

(i) Except as provided by paragraph (j) of this AD: After the actions in paragraph (h) of this AD have been accomplished, no alternative inspections or inspection intervals may be approved for the structural elements specified in the documents listed in paragraph (h) of this AD.

Alternative Methods of Compliance (AMOCs)

(j)(1) The Manager, International Branch, ANM-116, Transport Airplane Directorate, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Related Information

(k) European Aviation Safety Agency airworthiness directives 2007-0133, dated May 11, 2007, and 2007-0158, dated June 4, 2007; also address the subject of this AD.

Issued in Renton, Washington, on August 2, 2007.
Ali Bahrami,
Manager, Transport Airplane Directorate, Aircraft Certification Service.

[FR Doc. E7-16112 Filed 8-15-07; 8:45 am]

BILLING CODE 4910-13-P